DEPARTMENT OF THE INTERIOR

National Park Service

[NPS-WASO-NAGPRA-18278; PPWOCRADN0-PCU00RP15.R50000]

Notice of Inventory Completion: Museum of Anthropology at Washington State University, Pullman, WA

AGENCY: National Park Service, Interior.

ACTION: Notice.

SUMMARY: The Museum of Anthropology at Washington State University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Museum of Anthropology at Washington State University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Museum of Anthropology at Washington State University at the address in this notice by September 4, 2015.

ADDRESSES: Mary Collins, Director Emeritus, Museum of Anthropology Washington State University, Pullman, WA 99164-4910, telephone (509) 592-6929, email collinsm@wsu.edu.

SUPPLEMENTARY INFORMATION: Notice is here given in accordance with the Native American Graves Protection and Repatriation Act (NAGPRA), 25 U.S.C. 3003, of the completion of an inventory of human remains under the control of the Museum of Anthropology at Washington State University Pullman, WA. The human remains were removed from near the mouth of Crab Creek in Grant County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Museum of Anthropology at Washington State University professional staff in consultation with representatives of the Confederated Tribes and Bands of the Yakama Nation, Confederated Tribes of the Colville Reservation, and the Wanapum Band, a non-federally recognized Indian group.

History and Description of the Remains

In 1957, human remains representing, at minimum, one individual were removed from near the mouth of Crab Creek in Grant County, WA. No information about why or how the human remains were collected has been located. No known individuals were identified. No associated funerary objects are present. The human remains consist of a single lot of sand, ash, charcoal, and fragmentary human remains and are believed to be the remnants of a cremation feature. The human remains were found in a box labeled with the date and location from which the human remains were removed and the names of two students who are presumed to have done the removal. Attempts to locate and communicate with the students were not successful. Although not the most common form of burial, cremation was practiced by a number of Native American groups along the Columbia River from very ancient to relatively recent times.

Determinations Made by the Museum of Anthropology at Washington State University

Officials of the Museum of Anthropology at Washington State University have determined that:

• Pursuant to 25 U.S.C. 3001(9), the human remains described in this notice represent the physical remains of one individual of Native American ancestry.

• Pursuant to 25 U.S.C. 3001(2), there is a relationship of shared group identity that can be reasonably traced between the Native American human remains and the Confederated Tribes and Bands of the Yakama Nation and the Confederated Tribes of the Colville Reservation. Additionally, a cultural relationship is determined to exist between the human remains and the Wanapum Band, a non-federally recognized Indian group.

Additional Requestors and Disposition

Lineal descendants or representatives of any Indian tribe or Native Hawaiian organization not identified in this notice that wish to request transfer of control of these human remains should submit a written request with information in support of the request to Mary Collins, Director Emeritus, Museum of Anthropology at Washington State University, Pullman, WA 99164-4910, telephone (509) 592-6929, email collinsm@wsu.edu, by September 4, 2015. After that date, if no additional requestors have come forward, transfer of control of the human remains to the Confederated Tribes and Bands of the Yakama Nation, the Confederated Tribes of the Colville Reservation, and, if joined to one or more of the culturally affiliated tribes, the Wanapum Band, a non-federally recognized Indian group, may proceed.

The Museum of Anthropology at Washington State University is responsible for notifying the Confederated Tribes and Bands of the Yakama Nation, Confederated Tribes of the Colville Reservation, and the Wanapum Band, a non-federally recognized Indian group, that this notice has been published.

Dated: May 11, 2015.
Mariah Soriano,
Acting Manager, National NAGPRA Program.

[FR Doc. 2015-19271 Filed 8-4-15; 8:45 am]

BILLING CODE 4312-50-P